DEPARTMENT OF HEALTH AND HUMAN SERVICES

Centers for Disease Control and Prevention

National Center for HIV/AIDS, Viral Hepatitis, STD, and TB Prevention (NCHHSTP)—Advisory Council for the Elimination of Tuberculosis (ACET)

In accordance with section 10(a)(2) of the Federal Advisory Committee Act (Pub. L. 92-463), the Centers for Disease Control and Prevention (CDC), announces the following meeting of the aforementioned committee.

Time and Date: 10:00 a.m.-3:30 p.m., EDT, August 24, 2016.

Place: Corporate Square, Building 8, 1st Floor Conference Room, Atlanta, Georgia 30329. This meeting is also accessible by Web conference.

Toll free number +1 877-951-7311, Participant Code: 4727233.

URL for Web conference access: https://www.mymeetings.com/nc/join.php?i=PW9031041&p=4727233&t=c.

Status: This meeting is open to the public, limited only by the meeting room space and Web ports available. The meeting room accommodates 100 people and there will be 100 Web conference ports available. Persons who desire to make an oral statement may request it at the time of the public comment period on August 24, 2016 at 3:20 p.m. (EDT). Public participation and the ability to comment will be limited as time permits.

Purpose: This council advises and makes recommendations to the Secretary of Health and Human Services, the Assistant Secretary for Health, and the Director, CDC, regarding the elimination of tuberculosis (TB). Specifically, the Council makes recommendations regarding policies, strategies, objectives, and priorities; addresses the development and application of new technologies; and reviews the extent to which progress has been made toward eliminating tuberculosis.

Matters for Discussion: Agenda items include the following topics: (1) Division of Tuberculosis Elimination's Communication Plan for U.S. Preventive Services Task Force (USPSTF) Recommendations; (2) Analysis of TB Surveillance Data; (3) Update on Molecular Testing; (4) Updates from Workgroups; and (5) other Tuberculosis-related Issues.

Agenda items are subject to change as priorities dictate.

Contact Person for More Information: Margie Scott-Cseh, Committee Management Specialist, National Center for HIV/AIDS, Viral Hepatitis, STD, and TB Prevention, Centers for Disease Control and Prevention, 1600 Clifton Road NE., Mailstop: E-07, Atlanta, Georgia 30333, telephone (404) 639-8317; Email: zkr7@cdc.gov

The Director, Management Analysis and Services Office, has been delegated the authority to sign Federal Register notices pertaining to announcements of meetings and other committee management activities, for both the Centers for Disease Control and Prevention and the Agency for Toxic Substances and Disease Registry.

Catherine Ramadei,
Acting Director, Management Analysis and Services Office, Centers for Disease Control and Prevention (CDC).

[FR Doc. 2016-17795 Filed 7-27-16; 8:45 am]

BILLING CODE 4163-18-P